DEPARTMENT OF STATE

[Public Notice 7951]

Notice of Receipt of Application for Presidential Permit for the Construction of a New International Trade Crossing (NITC)

The Department of State hereby gives notice that on June 21, 2012, it received an application from the State of Michigan for a permit authorizing the construction, operation and maintenance of a new international road bridge that would connect Detroit, Wayne County, Michigan, and Windsor, Essex County, Ontario, Canada. The proposed bridge crossing would span approximately 2,800 feet or 0.53 miles. Landing in the Delray area of Detroit, it would include a plaza for inspection facilities, and a new interchange with Interstate 75. The application was filed by the State of Michigan, which would own the U.S. portion of the bridge. The bridge would be constructed, operated, and maintained by a new Crossing Authority, a Canadian corporation, acting through a concessionaire under a Public Private Partnership agreement. Michigan would grant a lease or another property interest to the Crossing Authority for these purposes.

The Department's jurisdiction with respect to this application is based upon Executive Order 11423, dated August 16, 1968, as amended, and the International Bridge Act of 1972 (Pub. L. 92-343, 86 Stat. 731, approved September 26, 1972). As required by E.O. 11423, the Department will circulate this application to concerned agencies for comment. Under E.O. 11423, the Department has the responsibility to determine, taking into account input from these agencies and other stakeholders, whether issuance of a Presidential permit for this proposed bridge would be in the U.S. national interest.

Interested members of the public are invited to submit written comments regarding this application on or before August 9, 2012 via email at NITCComments@state.gov. The Presidential permit application can be viewed online at http://www.state.gov/p/wha/rt/permit/.

Dated: July 5, 2012.
Elizabeth L. Martinez,
Director, Office of Canadian Affairs, Bureau of Western Hemisphere Affairs, Department of State.

[FR Doc. 2012-16938 Filed 7-10-12; 8:45 am]

BILLING CODE 4710-29-P